DEPARTMENT OF HEALTH AND HUMAN SERVICES

Health Resources and Services Administration

Advisory Committee; Notice of Meeting

Pursuant to section 10(d) of the Federal Advisory Committee Act, as amended (5 U.S.C. Appendix 2), notice is hereby given of the following Health Professions and Nurse Education Special Emphasis Panel Meetings.

Name: Minority Faculty Fellowship Program Peer Review Group.

Date and Time: November 27-30, 2001.

Place: Holiday Inn Silver Spring, 8777 Georgia Avenue, Silver Spring, MD 20910.

Open on: November 27, 2001, 8:00 a.m. to 10:00 a.m.

Closed on: November 27, 2001, 10:00 a.m. to 6:00 p.m.; November 28-30, 2001, 8:00 a.m. to 6:00 p.m.

Name: Nursing Faculty Development in Geriatrics Program Peer Review Group.

Date and Time: January 14-17, 2002.

Place: Holiday Inn Silver Spring, 8777 Georgia Avenue, Silver Spring, MD 20910.

Open on: January 14, 2002, 8:00 a.m. to 10:00 a.m.

Closed on: January 14, 2002, 10:00 a.m. to 6:00 p.m.; January 15-17, 2002, 8:00 a.m. to 6:00 p.m.

Name: Geriatric Nursing Knowledge and Experience in Long Term Care Facilities for Baccalaureate Nursing Students Program Peer Review Group

Date and Time: January 14-17, 2002.

Place: Holiday Inn Silver Spring, 8777 Georgia Avenue, Silver Spring, MD 20910.

Open on: January 14, 2002, 8:00 a.m. to 10:00 a.m.

Closed on: January 14, 2002, 10:00 a.m. to 6:00 p.m.; January 15-17, 2002, 8:00 a.m. to 6:00 p.m.

Name: Centers of Excellence Program Peer Review Group.

Date and Time: January 22-25, 2002.

Place: Holiday Inn Silver Spring, 8777 Georgia Avenue, Silver Spring, MD 20910.

Open on: January 22, 2002, 8:00 a.m. to 10:00 a.m.

Closed on: January 22, 2002, 10:00 a.m. to 6:00 p.m.; January 23-25, 2002, 8:00 a.m. to 6:00 p.m.

Name: Nursing Workforce Diversity Program Peer Review Group.

Date and Time: January 28-31, 2002.

Place: Holiday Inn Silver Spring, 8777 Georgia Avenue, Silver Spring, MD 20910.

Open on: January 28, 2002, 8:00 a.m. to 10:00 a.m.

Closed on: January 28, 2002, 10:00 a.m. to 6:00 p.m.; January 29-31, 2002, 8:00 a.m. to 6:00 p.m.

Name: Model State-Supported Area Health Education Centers Program Peer Review Group.

Date and Time: February 4-7, 2002.

Place: Holiday Inn Silver Spring, 8777 Georgia Avenue, Silver Spring, MD 20910.

Open on: February 4, 2002, 8:00 a.m. to 10:00 a.m.

Closed on: February 4, 2002, 10:00 a.m. to 6:00 p.m.; February 5-7, 2002, 8:00 a.m. to 6:00 p.m.

Name: Basic/Core Area Health Education Centers Program Peer Review Group.

Date and Time: February 4-7, 2002.

Place: Holiday Inn Silver Spring, 8777 Georgia Avenue, Silver Spring, MD 20910.

Open on: February 4, 2002, 8:00 a.m. to 10:00 a.m.

Closed on: February 4, 2002, 10:00 a.m. to 6:00 p.m.; February 5-7, 2002, 8:00 a.m. to 6:00 p.m.

Name: Advanced Education Nursing Grants Program Peer Review Group I.

Date and Time: February 11-14, 2002.

Place: Holiday Inn Silver Spring, 8777 Georgia Avenue, Silver Spring, MD 20910.

Open on: February 11, 2002, 8:00 a.m. to 10:00 a.m.

Closed on: February 11, 2002, 10:00 a.m. to 6:00 p.m.; February 12-14, 2002, 8:00 a.m. to 6:00 p.m.

Name: Advanced Education Nursing Program Peer Review Group. II.

Date and Time: February 19-22, 2002.

Place: Holiday Inn Silver Spring, 8777 Georgia Avenue, Silver Spring, MD 20910.

Open on: February 19, 2002, 8:00 a.m. to 10:00 a.m.

Closed on: February 19, 2002, 10:00 a.m. to 6:00 p.m.; February 19-22, 2002, 8:00 a.m. to 6:00 p.m.

Name: Health Careers Opportunity Program Peer Review Group

Date and Time: April 22-25, 2002.

Place: Holiday Inn Silver Spring, 8777 Georgia Avenue, Silver Spring, MD 20910.

Open on: April 22, 2002, 8:00 a.m. to 10:00 a.m.

Closed on: April 22, 2002, 10:00 a.m. to 6:00 p.m.; April 23-25, 2002, 8:00 a.m. to 6:00 p.m.

Name: Basic Nurse Education and Practice Grants Program Peer Review Group I.

Date and Time: April 29-May 2, 2002.

Place: Holiday Inn Silver Spring, 8777 Georgia Avenue, Silver Spring, MD 20910.

Open on: April 29, 2002, 8:00 a.m. to 10:00 a.m.

Closed on: April 29, 2002, 10:00 a.m. to 6:00 p.m.; April 30-May 2, 2002, 8:00 a.m. to 6:00 p.m.

Name: Basic Nurse Education and Practice Grants Program Peer Review Group II.

Date and Time: May 6-9, 2002.

Place: Holiday Inn Silver Spring, 8777 Georgia Avenue, Silver Spring, MD 20910.

Open on: May 6, 2002, 8:00 a.m. to 10:00 a.m.

Closed on: May 6, 2002, 10:00 a.m. to 6:00 p.m.; May 7-9, 2002, 8:00 a.m. to 6:00 p.m.

Purpose: The Health Professions and Nurse Education Special Emphasis Panel shall advise the Associate Administrator for Health Professions on the technical merit of grants to improve the training, distribution, utilization, and quality of personnel required to staff the Nation's health care delivery system.

Agenda: The open portion of each meeting will cover welcome and opening remarks, financial management and legislative implementation updates, and overview of the review process. The meetings will be closed at approximately 10:00 a.m. on the first day of each meeting until adjournment for the review of grant applications. The closing is in accordance with the provision set forth in section 552b(c)(6), Title 5 U.S. Code, and the Determination by the Associate Administrator for Management and Program Support, Health Resources and Services Administration, pursuant to Public Law 92-463.

Anyone wishing to obtain a roster of members or other relevant information should write or contact Ms. Theresa Derville, Acting Director, Office of Peer Review, Bureau of Health Professions, Parklawn Building, Room 8C-23, 5600 Fishers Lane, Rockville, Maryland 20857, telephone 301-443-6339.

Dated: November 2, 2001.
Jane M. Harrison,
Director, Division of Policy Review and Coordination.

[FR Doc. 01-28108 Filed 11-8-01; 8:45 am]

BILLING CODE 4165-15-P